DEPARTMENT OF HOMELAND SECURITY

Coast Guard

[USCG-2012-0359]

Great Lakes Pilotage Advisory Committee

AGENCY: Coast Guard, DHS.

ACTION: Committee Management; Notice of Federal Advisory Committee Meeting.

SUMMARY: The Great Lakes Pilotage Advisory Committee (GLPAC) will meet on June 7, 2012, in Washington, District of Columbia. The meeting will be open to the public.

DATE: GLPAC will meet on Thursday, June 7, 2012, from 9 a.m. to 4 p.m. Please note the meeting may close early if the committee completes its business. Written material and requests to make oral presentations should reach us on or before June 1, 2012.

ADDRESSES: The meeting will be held at Coast Guard Headquarters, 2100 2nd Street Southwest, Washington, District of Columbia 20593, in conference room 51309. All visitors to Coast Guard Headquarters will have to pre-register to be admitted to the building. Please provide your name, telephone number and organization by close of business on June 1, 2012, to the contact person listed in FOR FURTHER INFORMATION CONTACT: below. Additionally, all visitors to Coast Guard Headquarters must produce valid photo identification for access to the facility.

For information on facilities or services for individuals with disabilities or to request special assistance at the meeting, contact the person listed in FOR FURTHER INFORMATION CONTACT: below as soon as possible.

To facilitate public participation, we are inviting public comment on the issues to be considered by the committee as listed in the “Agenda” section below. Comments must be submitted in writing no later than June 1, 2012, and must be identified by [USCG-2012-0359] and may be submitted by one of the following methods:

• Federal eRulemaking Portal: http://www.regulations.gov. Follow the instructions for submitting comments.

• Fax: 202-493-2251.

• Mail: Docket Management Facility (M-30), U.S. Department of Transportation, West Building Ground Floor, Room W12-140, 1200 New Jersey Avenue SE., Washington, DC 20590-0001.

• Hand Delivery: Same as mail address above between 9 a.m. and 5 p.m., Monday through Friday, except Federal holidays. The telephone number is 202-366-9329.

To avoid duplication, please use only one of these four methods.

Instructions: All submissions received must include the words “Department of Homeland Security” and the docket number for this action. Comments received will be posted without alteration at http://www.regulations.gov, including any personal information provided. You may review a Privacy Act notice regarding our public dockets in the January 17, 2008, issue of the Federal Register (73 FR 3316).

Docket: For access to the docket to read documents or comments related to this notice, go to http://www.regulations.gov, and use “USCG-2012-0359” as your search term.

A public comment period of up to one hour will be held during the meeting on June 7th, 2012, after the committee completes its work on the agenda given under SUPPLEMENTARY INFORMATION. Speakers are requested to limit their comments to 5 minutes. Please note that the public comment period may end before the hour allotted, following the last call for comments. Contact the individual listed below to register as a speaker.

FOR FURTHER INFORMATION CONTACT: Mr. David Dean, GLPAC Assistant Designated Federal Officer (ADFO), Commandant (CG-5522), U.S. Coast Guard Headquarters, 2100 Second Street SW Stop 7580, Washington, DC 20593-7580; telephone 202-372-1533, fax 202-372-1909, or email at David.J.Dean@uscg.mil. If you have questions on viewing or submitting material to the docket, call Renee V. Wright, Program Manager, Docket Operations, telephone 202-366-9826.

SUPPLEMENTARY INFORMATION: Notice of this meeting is given under the Federal Advisory Committee Act, 5 U.S.C. App. (Pub. L. 92-463). GLPAC was established under the authority of 46 U.S.C. 9307, and makes recommendations to the Secretary of Homeland Security and the Coast Guard on matters relating to Great Lakes pilotage, including review of proposed Great Lakes pilotage regulations and policies.

GLPAC expects to meet twice per year but may also meet at other times at the call of the Secretary. Further information about GLPAC is available by searching on “Great Lakes Pilotage Advisory Committee” at http://www.faca.gov.

Agenda

The GLPAC will meet to review, discuss and formulate recommendations on the following issues:

Relocating the Great Lakes Pilotage Division physical office from Washington, DC to Cleveland, OH.

Comprehensive study of Great Lakes pilotage operations including detailed analysis of the existing bridge hour standard for pilotage operations, the seasonal pilotage work hour standard of 1000/1800 hours for designated/undesignated waters, the efficacy of the current billing scheme and alternatives, the standard for return on investment for pilotage operations, the use of a multi-year average of vessel traffic levels for annual projections of traffic, and a review of appropriate pilot compensation.

Audits for the 2014 Appendix A rulemaking which establishes the rates that pilots can charge industry for their services.

Memorandum of Arrangements between the U.S. and Canada concerning definitions and procedures for pilotage in the shared waters of the Great Lakes.

Establishing a permanent split of St. Lawrence River pilotage assignments through a change point at Iroquois Lock.

This will be followed by a public comment period of up to one hour. Speakers are requested to limit their comments to 5 minutes.

More detailed information and materials relating to these issues appear in the docket, http://www.regulations.gov. Use “USCG-2012-0359” as your search term.

Dated: April 18, 2012.
D. A. Goward,
Director Marine Transportation Systems, U.S. Coast Guard.

[FR Doc. 2012-9889 Filed 4-24-12; 8:45 am]

BILLING CODE 9110-04-P